DEPARTMENT OF COMMERCE

National Oceanic and Atmospheric Administration

50 CFR Part 660

RTID 0648-BK81

Magnuson-Stevens Act Provisions; Fisheries Off West Coast States; Pacific Coast Groundfish Fishery; Non-Trawl Logbook; Correction

AGENCY: National Marine Fisheries Service (NMFS), National Oceanic and Atmospheric Administration (NOAA), Commerce.

ACTION: Final rule; correction.

SUMMARY: NMFS published a final rule on October 3, 2022, announcing a Federal requirement for certain vessels in the Pacific Coast Groundfish fishery target fishing for groundfish with non-trawl gear in Federal waters seaward of California, Oregon, and Washington, to complete and submit a non-trawl logbook to NMFS via an electronic application (87 FR 59724). This correction is necessary to modify a regulatory instruction so that the implementing regulations are accurate. This correction is also necessary to clarify the methods by which fishermen can record required information while on a fishing trip.

DATES: This correction is effective January 1, 2023.

FOR FURTHER INFORMATION CONTACT: Lynn Massey, (971) 238-2514, email: lynn.massey@noaa.gov.

ADDRESSES:

Electronic Access

This rule is accessible via the internet at the Office of the Federal Register website at https://www.federalregister.gov. Background information and documents are available at the Pacific Fishery Management Council's website at http://www.pcouncil.org/.

SUPPLEMENTARY INFORMATION: NMFS published a final rule on October 3, 2022, announcing a Federal requirement for certain vessels in the Pacific Coast Groundfish fishery target fishing for groundfish with non-trawl gear in Federal waters seaward of California, Oregon, and Washington, to complete and submit a non-trawl logbook to NMFS via an electronic application (87 FR 59724). This rule is effective January 1, 2023.

The October 3, 2022, final rule included regulatory changes to the declaration codes listed at § 660.13(d)(4)(iv)(A). These regulatory instructions conflict with regulatory instructions that modify the same declaration codes in a different final rule that NMFS published on the same day to implement electronic monitoring program regulations for vessels using groundfish bottom trawl and non-whiting midwater trawl gear in the Pacific Coast Groundfish Trawl Catch Share Program (87 FR 59705, October 3, 2022). This correction is necessary to modify the incorrect regulatory instruction so that the implementing regulations are accurate.

This correction is also necessary to clarify the methods by which fishermen can record required information while on a fishing trip. NMFS added clarifying regulatory text that explains that fishermen can record required gear setting and retrieval information outside of the electronic logbook application while fishing, as long as the information is entered and submitted within the electronic logbook application within 24 hours of landing.

Correction

In FR. Doc. 2022-21409 at 87 FR 59724 in the issue of October 3, 2022, on page 59728, correct amendatory instruction 4 and the regulatory text to read:

4. In § 660.13:

a. Add paragraphs (a)(2) through (4); and

b. Revise paragraphs (d)(4)(iv) introductory text and paragraph (d)(4)(iv)(A).

The additions and revisions read as follows:

§ 660.13 Recordkeeping and reporting.

* * * * *

(a) * * *

(2) Non-Trawl Logbook. The authorized representative of a commercial vessel participating in the below list of groundfish fishery sectors must keep and submit a complete and accurate record of fishing activities in the non-trawl electronic logbook application:

(i) The directed open access fishery, as defined at § 660.11;

(ii) The limited entry fixed gear trip limit fisheries subject to the trip limits in Table 2 North and South to Subpart E, and primary sablefish fisheries, as defined at § 660.211; and

(iii) Gear switching in the Shorebased IFQ Program, as defined at § 660.140(k).

(3) Non-Trawl Electronic Logbook Application. The non-trawl electronic logbook application is a web-based portal used to send data from non-trawl fishing trips to the Pacific States Marine Fisheries Commission. The following requirements apply:

(i) The authorized representative of the vessel must complete an entry in the non-trawl electronic logbook application for all groundfish fishing trips, as defined under § 660.11. Required information for each fishing trip includes, but is not limited to, information on set-level data on catch, discards, fishing location, fishing depth, gear configuration, and sale.

(ii) The authorized representative of the vessel must complete an entry for each groundfish fishing trip in the non-trawl electronic logbook application with valid responses for all data fields in the application, except for information not yet ascertainable, prior to entering port, subject to the following requirements:

(A) Setting gear. Logbook entries for setting gear, including vessel information, gear specifications, set date/time/location, must be completed within 2 hours of setting gear. The authorized representative of each vessel may record or document this information in a format outside of the electronic logbook application (e.g., waterproof paper). Information recorded outside of the electronic logbook application must be available for review at-sea by authorized law enforcement personnel upon request, and must be entered into the electronic application per subparagraph C.

(B) Retrieving gear. Logbook entries for retrieving gear, including date/time recovered and catch/discard information, must be completed within 4 hours of retrieving gear. The authorized representative of each vessel may record or document this information in a format outside of the electronic logbook application (e.g., waterproof paper). Information recorded outside of the logbook entry must be available for review at-sea by authorized law enforcement personnel upon request, and must be entered into the electronic application per subparagraph C.

(C) Non-Trawl Electronic Logbook Submission. The authorized representative of the vessel must complete and submit entries in the non-trawl electronic logbook application within 24 hours of the completion of offload, including information under subparagraphs A and B that was captured but not recorded in the electronic logbook application while fishing.

(4) Non-Trawl Paper Logbook. For a minimum of one year from the effective date of the final rule, vessels subject to this non-trawl logbook requirement are permitted to submit a paper logbook form in lieu of the requirement to fill out the non-trawl electronic logbook application. The West Coast Regional Administrator will prescribe the paper logbook forms required under this section. NMFS will issue a public notice at least 90 calendar days prior to ending the optional provision to submit a paper logbook. The authorized representative of the vessel must complete the non-trawl logbook form on all groundfish trips, subject to the same requirements as for the non-trawl electronic logbook application, listed above in § 660.13(a)(3)(i) through (ii). The authorized representative of the vessel must deliver the NMFS copy of the non-trawl logbook form by mail, email, or in person to NMFS or its agent within 30 days of landing. The authorized representative of the vessel responsible for submitting the non-trawl logbook forms must maintain a copy of all submitted logbooks for a minimum of three years after the fishing activity ended.

* * * * *

(d) * * *

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using non-trawl gear may declare more than one gear type with the exception of vessels participating in the Shorebased IFQ Program (i.e. gear switching); however, vessels using trawl gear may only declare one of the trawl gear types listed in paragraph (d)(4)(iv)(A) of this section on any trip and may not declare non-trawl gear on the same trip in which trawl gear is declared.

(A) One of the following gear types or sectors, and monitoring type where applicable, must be declared:

(1) Limited entry fixed gear, not including shorebased IFQ (declaration code 10);

(2) Limited entry groundfish non-trawl, shorebased IFQ, observer (declaration code 11);

(3) Limited entry groundfish non-trawl, shorebased IFQ, electronic monitoring (declaration code 11);

(4) Limited entry midwater trawl, non-whiting shorebased IFQ, observer (declaration code 20);

(5) Limited entry midwater trawl, non-whiting shorebased IFQ, electronic monitoring (declaration code 20),

(6) Limited entry midwater trawl, Pacific whiting shorebased IFQ, observer (declaration code 21);

(7) Limited entry midwater trawl, Pacific whiting shorebased IFQ, electronic monitoring (declaration code 21);

(8) Limited entry midwater trawl, Pacific whiting catcher/processor sector (declaration code 22);

(9) Limited entry midwater trawl, Pacific whiting mothership sector (catcher vessel or mothership), observer (declaration code 23);

(10) Limited entry midwater trawl, Pacific whiting mothership sector (catcher vessel), electronic monitoring (declaration code 23);

(11) Limited entry bottom trawl, shorebased IFQ, not including demersal trawl or selective flatfish trawl, observer (declaration code 30);

(12) Limited entry bottom trawl, shorebased IFQ, not including demersal trawl or selective flatfish trawl, electronic monitoring (declaration code 30);

(13) Limited entry demersal trawl, shorebased IFQ, observer (declaration code 31);

(14) Limited entry demersal trawl, shorebased IFQ, electronic monitoring (declaration code 31);

(15) Limited entry selective flatfish trawl, shorebased IFQ, observer (declaration code 32);

(16) Limited entry selective flatfish trawl, shorebased IFQ, electronic monitoring (declaration code 32);

(17) Non-groundfish trawl gear for pink shrimp (declaration code 41);

(18) Non-groundfish trawl gear for ridgeback prawn (declaration code 40);

(19) Non-groundfish trawl gear for California halibut (declaration code 42);

(20) Non-groundfish trawl gear for sea cucumber (declaration code 43);

(21) Open access bottom contact hook-and-line gear for groundfish (e.g., bottom longline, commercial vertical hook-and-line, dinglebar) (declaration code 33);

(22) Open access Pacific halibut longline gear (declaration code 62);

(23) Open access groundfish trap or pot gear (declaration code 34);

(24) Open access Dungeness crab trap or pot gear (declaration code 61);

(25) Open access prawn trap or pot gear (declaration code 60);

(26) Open access sheephead trap or pot gear (declaration code 65);

(27) Open access non-bottom contact hook and line gear for groundfish (e.g., troll, jig gear, rod & reel gear) (declaration code 35);

(28) Open access non-bottom contact stationary vertical jig gear (declaration code 36);

(29) Open access non-bottom contact troll gear (declaration code 37);

(30) Open access HMS line gear (declaration code 66);

(31) Open access salmon troll gear (declaration code 63);

(32) Open access California Halibut line gear (declaration code 64);

(33) Open access Coastal Pelagic Species net gear (declaration code 67);

(34) Other, a gear that is not listed above (declaration code 69);

(35) Tribal trawl gear (declaration code 50);

(36) Open access set net or gillnet gear—California (declaration 68); or

(37) Gear testing, Trawl Rationalization fishery (declaration code 70).

* * * * *

Dated: November 28, 2022.
Samuel D. Rauch, III,
Deputy Assistant Administrator for Regulatory Programs, National Marine Fisheries Service.

[FR Doc. 2022-26231 Filed 12-2-22; 8:45 am]

BILLING CODE 3510-22-P